DEPARTMENT OF COMMERCE

International Trade Administration

[C-489-832]

Carbon and Alloy Steel Wire Rod From Turkey: Correction to Notice of Opportunity To Request Administrative Review

AGENCY: Enforcement and Compliance, International Trade Administration, Department of Commerce.

FOR FURTHER INFORMATION CONTACT: Brenda E. Waters, AD/CVD Operations, Customs Liaison Unit, Enforcement and Compliance, International Trade Administration, U.S. Department of Commerce, 1401 Constitution Avenue NW, Washington, DC 20230; telephone: (202) 482-4735.

SUPPLEMENTARY INFORMATION:

Background

On May 1, 2019, Commerce published its notification to parties of the opportunity to request an administrative review of countervailing duty orders and inadvertently omitted Carbon and Alloy Steel Wire Rod from Turkey (C-489-832), POR 9/5/2017-12/31/2018. See Antidumping or Countervailing Duty Order, Finding, or Suspended Investigation; Opportunity To Request Administrative Review, 84 FR 18479 (May 1, 2019).

This notice serves as a correction to include the countervailing duty order Carbon and Alloy Steel Wire Rod from Turkey (C-489-832) administrative review in the referenced notice.

Dated: May 16, 2019.
Gary Taverman,
Deputy Assistant Secretary for Antidumping and Countervailing Duty Operations.

[FR Doc. 2019-10804 Filed 5-22-19; 8:45 am]

BILLING CODE 3510-DS-P